DEPARTMENT OF HOMELAND SECURITY

Coast Guard

[Docket No. USCG-2008-1230]

IMO MARPOL Reception Facility Advance Notice Form and Waste Delivery Receipt

AGENCY: Coast Guard, DHS.

ACTION: Notice.

SUMMARY: The International Maritime Organization (IMO) has adopted, with the support of the U.S. Government, through its delegation to IMO's Marine Environmental Protection Committee (MEPC-58) meeting in October 2008, standardized formats for an Advanced Notice Form (ANF) and a Waste Delivery Receipt (WDR) relating to vessel waste streams. We anticipate that the new form and receipt will be widely distributed to vessels making port calls to the U.S. The Coast Guard encourages their use.

DATES: The ANF and WDR standardized formats are available on February 13, 2009.

FOR FURTHER INFORMATION CONTACT: If you have questions on this notice, call Commander Michael Roldan, telephone 202-372-1130, e-mail: luis.m.roldan@uscg.mil, or David Condino, MARPOL COA Project Manager, telephone 202-372-1145,e-mail: david.a.condino@uscg.mil.

SUPPLEMENTARY INFORMATION:

Adoption of the ANF and WDR Standard Forms: The use of such standardized formats will facilitate adequate reception facilities by improving communication between ship and reception facility operators with respect to the notice and delivery of operational ship's wastes. Use of standardized forms by the international shipping community and by U.S. facility operators required to maintain adequate MARPOL reception facilities will also aid the Coast Guard in investigating allegations of purported inadequate reception facilities. Additionally, the Coast Guard encourages ship operators to send a copy of the ANF to the relevant Captain of the Port (COTP) prior to arrival at a U.S. port.

ADDRESSES: The two forms can be downloaded in PDF format from the Coast Guard's Homeport public information Web site at: https://homeport.uscg.mil/mycg/portal/ep/programView.do?channelId=-18363&programId=13055&programPage=%2Fep%2Fprogram%2Feditorial.jsp&pageTypeId=13489.

The forms are also available on the IMO's Web site at: http://www.imo.org/circulars/mainframe.asp?topic_id=687&offset=7

The ANF Circular with the form is listed as MEPC.1/Circ.644 and the WDR Circular is listed as MEPC.1/Circ.645.

Dated: February 9, 2009.
J. Lantz,
Director of Commercial Regulations and Standards.

[FR Doc. E9-3126 Filed 2-12-09; 8:45 am]

BILLING CODE 4910-15-P